DEPARTMENT OF TRANSPORTATION

Federal Aviation Administration

Notice of Intent To Rule on Application 00-02-C-00-GRI To Impose and Use the Revenue From a Passenger Facility Charge (PFC) at Central Nebraska Regional Airport, Grand Island, NE

AGENCY: Federal Aviation Administration, (FAA), DOT.

ACTION: Notice of Intent to Rule on Application; correction.

SUMMARY: This action corrects information in the notice of intent to rule on application published in 65 FR 67789 dated November 13, 2000, FR Document 00-28994. Under

SUPPLEMENTARY INFORMATION: In the first column, in the 25th line, the date the FAA will approve or disapprove the application, in whole or in part, should read, “no later than February 3, 2001”.

FOR FURTHER INFORMATION CONTACT: Lorna Sandridge, PFC Program Manager, FAA, Central Region, 901 Locust, Kansas City, MO 64106, (816)329-2641.

Issued in Kansas City, Missouri on November 20, 2000.
George A. Hendon,
Manager, Airports Division, Central Region.

[FR Doc. 00-32516 Filed 12-20-00; 8:45 am]

BILLING CODE 4910-13-M